NATIONAL AERONAUTICS AND SPACE ADMINISTRATION

[Notice 01-23]

NASA Advisory Council (NAC), Space Science Advisory Committee (SScAC); Meeting

AGENCY: National Aeronautics and Space Administration

ACTION: Notice of meeting.

SUMMARY: In accordance with the Federal Advisory Committee Act, Pub. L. 92-463, as amended, the National Aeronautics and Space Administration announces a forthcoming meeting of the NASA Advisory Council, Space Science Advisory Committee.

DATES: Tuesday, March 20, 2001, 8:30 a.m. to 5:30 p.m.; Wednesday, March 21, 2001, 8:30 a.m. to 5:30 p.m.; and Thursday, March 22, 2001, 8:30 a.m. to Noon.

ADDRESSES: NASA Headquarters, 300 E Street, SW., Conference Room 5H46, Washington, DC 20546.

FOR FURTHER INFORMATION CONTACT: Ms. Marian Norris, Code SB, National Aeronautics and Space Administration, Washington, DC 20546, 202/358-4452.

SUPPLEMENTARY INFORMATION: The meeting will be open to the public up to the capacity of the room. The agenda for the meeting includes the following:

—Associate Administrator's Program Status Report

—Science Theme Status Reports

—Subcommittee Reports

—Outer Planets

—NGST Reformulation

—Technology Program Status

—Research Program Review Status

—Sounding Rocket and Balloons Program

—Activities and Schedule for 2003 Strategic Plan

—Mars Scout

It is imperative that the meeting be held on these dates to accommodate the scheduling priorities of the key participants.

Visitors will be requested to sign a visitor's register.

Dated: February 7, 2001.
Beth M. McCormick,
Advisory Committee Management Officer, National Aeronautics and Space Administration.

[FR Doc. 01-3479 Filed 2-9-01; 8:45 am]

BILLING CODE 7510-01-U